DEPARTMENT OF HOMELAND SECURITY

Federal Emergency Management Agency

[Docket ID FEMA-2024-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Nicholas A. Shufro,
Assistant Administrator (Acting) for Risk Management, Federal Emergency Management Agency, Department of Homeland Security.

State and county | Location and case No. | Chief executive officer of community | Community map repository | Date of modification | Community No.
Arizona:
Maricopa (FEMA Docket No.: B-2451). | City of Surprise (23-09-0744P). | The Honorable Skip Hall, Mayor, City of Surprise, 16000 North Civic Center Plaza, Suprise, AZ 85374. | Public Works Department, Engineering Development Services, 16000 North Civic Center Plaza, Suprise, AZ 85374. | Oct. 25, 2024 | 040053
Mohave (Interim skipped per FEMA's directive). | City of Bullhead City (24-09-0186P). | The Honorable Steve D'Amico, Mayor, City of Bullhead City, 2355 Trane Road, Bullhead City, AZ 86442. | Public Works Department, 2355 Trane Road, Bullhead City, AZ 86442. | Nov. 12, 2024 | 040125
California:
Riverside (FEMA Docket No.: B-2451). | City of Corona (23-09-0763P). | The Honorable Tom Richins, Mayor, City of Corona, 400 South Vicentia Avenue, Corona, CA 92882. | Public Works Department, 400 South Vicentia Avenue, Corona, CA 92882. | Oct. 29, 2024 | 060250
Riverside (Interim skipped per FEMA's directive). | City of Moreno Valley (24-09-0212P). | The Honorable Ulises Cabrera, Mayor, City of Moreno Valley, 14177 Frederick Street, Moreno Valley, CA 92552. | Public Works Department, 14177 Frederick Street, Moreno Valley, CA 92552. | Nov. 11, 2024 | 065074
San Bernardino (Interim skipped per FEMA's directive). | City of Rancho Cucamonga (23-09-1288P). | The Honorable L. Dennis Michael, Mayor, City of Rancho Cucamonga, 10500 Civic Center Drive, Rancho Cucamonga, CA 91730. | Engineering Department, 10500 Civic Center Drive, Rancho Cucamonga, CA 91730. | Nov. 13, 2024 | 060671
San Diego (FEMA Docket No.: B-2451). | City of San Diego (23-09-1115P). | The Honorable Todd Gloria, Mayor, City of San Diego, 202 C Street, 11th Floor, San Diego, CA 92101. | Development Services Department, 1222 1st Avenue, MS 301, San Diego, CA 92101. | Nov. 5, 2024 | 060295
San Diego (FEMA Docket No.: B-2451). | Unincorporated Areas of San Diego County (23-09-1385P). | Nora Vargas, Chair, San Diego County Board of Supervisors, 1600 Pacific Highway Room 335, San Diego, CA 92101. | San Diego County Flood Control District, Department of Public Works, 5510 Overland Avenue, Suite 410, San Diego, CA 92123. | Nov. 6, 2024 | 060284
San Mateo (Interim skipped per FEMA's directive). | City of Burlingame (23-09-1024P). | The Honorable Donna Colson, Mayor, City of Burlingame, 501 Primrose Road, Burlingame, CA 94010. | City Hall, 501 Primrose Road, Burlingame, CA 94010. | Oct. 11, 2024 | 065019
San Mateo (Interim skipped per FEMA's directive). | City of San Mateo (23-09-1024P). | The Honorable Lisa Diaz Nash, Mayor, City of San Mateo, 330 West 20th Avenue, San Mateo, CA 94403. | Public Works Department, 330 West 20th Avenue, San Mateo, CA 94403. | Oct. 11, 2024 | 060328
Ventura (FEMA Docket No.: B-2451). | City of Simi Valley (23-09-0719P). | The Honorable Fred D. Thomas, Mayor, City of Simi Valley, 2929 Tapo Canyon Road, Simi Valley, CA 93063. | City Hall, 2929 Tapo Canyon Road, Simi Valley, CA 93063. | Oct. 22, 2024 | 060421
Ventura (FEMA Docket No.: B-2451). | Unincorporated Areas of Ventura County (24-09-0380P). | Kelly Long, Chair, Ventura County Board of Supervisors, 1203 Flynn Road, Suite 220, Camarillo, CA 93012. | Ventura County, Public Works Agency, 800 South Victoria Avenue, Ventura, CA 93009. | Nov. 4, 2024 | 060413
Hawaii: Hawaii (Interim skipped per FEMA's directive). | Unincorporated Areas of Hawaii County (24-09-0518P). | The Honorable Mitchell D. Roth, Mayor, Hawaii County, 25 Aupuni Street, Suite 2603, Hilo, HI 96720. | Hawaii County Department of Public Works, Engineering Division, 101 Pauahi Street, Suite 7, Hilo, HI 96720. | Nov. 11, 2024 | 155166
Idaho: Ada (FEMA Docket No.: B-2451). | City of Boise (23-10-0877P). | The Honorable Lauren McLean, Mayor, City of Boise, P.O. Box 500, Boise, ID 83701. | City Hall, 150 North Capitol Boulevard, 2nd Floor, Boise, ID 83701. | Oct. 31, 2024 | 160002
Oregon: Marion (FEMA Docket No.: B-2451). | City of Salem (23-10-0633P). | The Honorable Chris Hoy, Mayor, City of Salem, City Council, 555 Liberty Street Southeast, Room 220, Salem, OR 97301. | City Hall, 555 Liberty Street Southeast, Room 325, Salem, OR 97301. | Nov. 4, 2024 | 410167
Washington:
Kittitas (FEMA Docket No.: B-2451). | City of Ellensburg (24-10-0037P). | The Honorable Rich Elliott, Mayor, City of Ellensburg, City Hall, 501 North Anderson Street, Ellensburg, WA 98926. | City Hall, 501 North Anderson Street, Ellensburg, WA 98926. | Oct. 16, 2024 | 530234
Kittitas (FEMA Docket No.: B-2451). | Unincorporated Areas of Kittitas County (24-10-0037P). | Laura Osiadacz, Chair, Kittitas County Board of Commissioners, 205 West 5th Avenue, Suite 108, Ellensburg, WA 98926. | Kittitas County Department of Public Works, 411 North Ruby Street Suite 1, Ellensburg, WA 98926. | Oct. 16, 2024 | 530095

[FR Doc. 2025-00240 Filed 1-7-25; 8:45 am]

BILLING CODE 9110-12-P